DEPARTMENT OF STATE

[Public Notice 4561]

Redesignation of Foreign Terrorist Organizations

Pursuant to section 219 of the Immigration and Nationality Act, as amended, 8 U.S.C. 1189, the Secretary of State, in consultation with the Secretary of the Treasury and the Attorney General, hereby redesignates, effective December 23, 2003, the following two organizations as foreign terrorist organizations:

Lashkar e-Tayyiba

Also known as Lashkar e-Toiba

Also known as Lashkar-i-Taiba

Also known as al Mansoorian

Also known as al Mansooreen

Also known as Army of the Pure

Also known as the Army of the Righteous

Also known as the Army of the Pure and Righteous

Jaish e-Mohammed

Also known as the Army of Mohammed

Also known as Mohammed's Army

Also known as Tehrik ul-Furqaan

Also known as Khuddam-ul-Islam

Also known as Khudamul Islam

Also known as Kuddam e Islami

Dated: December 16, 2003.
William P. Pope,
Acting Coordinator for Counterterrorism, Department of State.

[FR Doc. 03-31570 Filed 12-22-03; 5:00 pm]

BILLING CODE 4710-10-P